DEPARTMENT OF COMMERCE

National Oceanic and Atmospheric Administration

Agency Information Collection Activities; Submission to the Office of Management and Budget (OMB) for Review and Approval; Comment Request; Bay Watershed Education and Training Program National Evaluation System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 8, 2022 (87 FR 7157), during a 60-day comment period. This notice allows for an additional 30 days for public comments.

Agency: National Oceanic & Atmospheric Administration (NOAA), Commerce.

Title: Bay Watershed Education and Training Program National Evaluation System.

OMB Control Number: 0648-0658.

Form Number(s): None.

Type of Request: Regular submission, extension of a current information collection.

Number of Respondents: 2,583.

Average Hours per Response: Awardee-respondents will complete an online survey in 60 minutes and teacher-respondents will complete two online surveys in 30 minutes each.

Total Annual Burden Hours: 1,027.

Needs and Uses: The National Oceanic and Atmospheric Administration's (NOAA) Office of Education is sponsoring data collection efforts on its Bay Watershed Education and Training (B-WET) program. The NOAA B-WET program is authorized under 33 U.S.C. 893a(a), the America COMPETES Act. The Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. B-WET advances NOAA's mission by awarding education grants that foster an environmentally literate citizenry who have the knowledge, attitudes, and skills needed to protect watersheds and related ocean, coastal, and Great Lakes ecosystems. B-WET currently funds projects in seven regions (California, Chesapeake Bay, Great Lakes, Gulf of Mexico, Hawaii, New England, and the Pacific Northwest).

To ensure that educational activities funded by B-WET are of the highest quality, and maximize federal resources, B-WET has created an across-region, internal evaluation system to provide ongoing monitoring of program implementation and to identify opportunities for improved program outcomes. The evaluation system is maintained by B-WET staff with occasional assistance from an outside contractor. The evaluation system collects information from B-WET program-funded project participants.

B-WET awardees of grants or cooperative agreements, and the awardees' teachers who attend professional development programs provided by the awardees, are asked to voluntarily complete online survey forms to provide data for the evaluation system. Information collected from awardees includes program elements such as program duration, format, audience, location, support and/or materials offered, and topics covered. Information collected from teacher professional development participants includes teaching methodologies, program satisfaction, program coverage, suggestions for improvement, and teaching confidence. Information collected from teachers at the end of the school year following their participation in a professional development program includes time spent teaching topics covered in the professional development program, types of activities used with their students, teachers' perceptions of student learning, and teaching practices utilized. One individual from each awardee organization is asked to complete a survey once per year of the award, and the teacher participants are asked to complete one survey at the end of their professional development program and another survey at the end of the following school year. Responses to the survey questions are aggregated and analyzed as part of ongoing evaluation efforts.

Based on a review of annual evaluation system results, B-WET has made program improvements by adjusting its Federal Notice of Funding Opportunities and program guidelines. On-going data collection enables NOAA to monitor program implementation and outcomes on a regular basis and supports adaptive management of the program.

Affected Public: Business and other for-profit organizations; not-for-profit institutions; state, local or tribal government; individuals or households.

Frequency: On occasion.

Respondent's Obligation: Voluntary.

Legal Authority: 33 U.S.C. 893a(a), the America COMPETES Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0658.

Sheleen Dumas,
Department PRA Clearance Officer, Office of the Chief Information Officer, Commerce Department.

[FR Doc. 2022-08160 Filed 4-15-22; 8:45 am]

BILLING CODE 3510-12-P